DEPARTMENT OF STATE

[Public Notice: 12093]

Renewal of International Security Advisory Board Charter

SUMMARY: The Department of State announces the renewal of the Charter for the International Security Advisory Board (ISAB).

The purpose of the ISAB is to provide the Department of State with a continuing source of independent insight, advice, and innovation on all aspects of arms control, disarmament, nonproliferation, outer space, critical infrastructure, cybersecurity, the national security aspects of emerging technologies, international security, and related aspects of public diplomacy. The ISAB will remain in existence for two years after the filing date of the Charter unless terminated or renewed.

For more information, contact Michelle Dover, Executive Director of the International Security Advisory Board, Department of State, Washington, DC 20520, telephone: (202) 736-4930.

(Authority: 22 U.S.C. 2651a and 41 CFR 102-3.65.)

Michelle E. Dover,
Executive Director, International Security Advisory Board, Department of State.

[FR Doc. 2023-11741 Filed 6-1-23; 8:45 am]

BILLING CODE 4710-35-P